NUCLEAR REGULATORY COMMISSION

Notice of Receipt of Supplemental Environmental Report for the Mixed Oxide Fuel Fabrication Facility and Notice of Public Meetings

AGENCY: Nuclear Regulatory Commission.

ACTION: Notice of receipt and notice of public meetings.

SUMMARY: On July 11, 2002, the U.S. Nuclear Regulatory Commission (NRC) received a supplemental Environmental Report (ER) from Duke COGEMA Stone & Webster (DCS), for the proposed Mixed Oxide (MOX) Fuel Fabrication Facility. The need for the supplemental ER arose, in January 2002, when the U.S. Department of Energy (DOE) announced its decision to alter its planned hybrid approach for surplus weapons plutonium disposition [65 FR 1608]. The Plutonium Immobilization Plant (PIP) that DOE had planned to build and operate as part of its hybrid approach will not be built. Instead, DOE decided that 34 metric tons of surplus weapons plutonium would be converted into MOX fuel at the proposed MOX facility. DOE's decision not to build the Plutonium Immobilization Plant (PIP) and convert all of the plutonium into MOX fuel requires design changes to the proposed MOX facility. The NRC staff found that due to these changes, DCS would be required to submit a supplemental ER. A notice of delay in issuance of the Draft and Final Environmental Impact Statements (EIS) for the proposed MOX facility was published in the Federal Register on April 24, 2002 (67 FR 20183). This Federal Register notice also discussed changes to the proposed MOX facility and DOE surplus disposition program.

The NRC will host three public meetings. The meetings are part of the continuing process to keep affected stakeholders and the public informed of plans, schedules and important issues related to the preparation of the EIS, and to answer questions. The purpose of the meetings will be to inform the public of changes in the supplemental ER and the DOE surplus disposition program. NRC staff will also discuss how these changes have affected the scope of the Draft EIS summarized in the Scoping Summary Report dated August 2001. In the April 24, 2002 Federal Register notice, public comment was solicited on two issues.

(1) How the immobilization of surplus plutonium as a No Action Alternative should be discussed in the DEIS, since DOE has canceled plans to build the Plutonium Immobilization Plant.

(2) Whether there are additional reasonable alternatives not identified during scoping that should be considered in the DEIS, in light of the changes described above. As discussed in the Scoping Summary Report, NRC is considering the environmental impacts of the proposed action (construction and operation of the proposed MOX fuel fabrication facility), continued storage of surplus plutonium at existing DOE sites, and immobilization of surplus plutonium. If the immobilization alternative is not considered, then the DEIS would only evaluate the proposed action and one No Action Alternative.

NRC staff will summarize the responses received and solicit views of people at the meetings. Information will be provided on the EIS review process and stakeholders will be updated on the revised EIS schedule. The meeting dates, times and locations are listed below:

Tuesday, September 17, 2002, 7 p.m. to 10 p.m., North Augusta Community Center, 495 Brookside Avenue, North Augusta, South Carolina.

Wednesday, September 18, 2002, 7 p.m. to 10 p.m., Coastal Georgia Center, 305 Fahm Street, Savannah, Georgia.

Thursday, September 19, 2002, 7 p.m. to 10 p.m., Charlotte-Mecklenburg Government Center, 600 E. Fourth Street, Charlotte, North Carolina.

FOR FURTHER INFORMATION CONTACT: For general information on the NRC NEPA process, please contact: Tim Harris at (301) 415-6613. For general or technical information associated with the proposed MOX facility, please contact: Tim Johnson at (301) 415-7299, or Drew Persinko at (301) 415-6522.

Availability of Documents for Review

Information on the supplemental ER and other documents associated with the proposed MOX project are available for public review through our electronic reading room: http://www.nrc.gov/reading-rm.html or the MOX web page: http://www.nrc.gov/materials/fuel-cycle-fac/MOX/licensing.html. Documents may also be obtained from NRC's Public Document Room at U.S. Nuclear Regulatory Commission, Public Document Room, Washington, DC 20555.

Signed in Rockville, MD, this 15th day of August, 2002.
For the Nuclear Regulatory Commission.
Cheryl Trottier,
Chief, Environmental and Performance Assessment Branch, Division of Waste Management, Office of Nuclear Material Safety and Safeguards.

[FR Doc. 02-21416 Filed 8-21-02; 8:45 am]

BILLING CODE 7590-01-P